SECURITIES AND EXCHANGE COMMISSION

[File No. 500-1]

In the Matter of Universal Medical Systems, Inc.; Order of Suspension of Trading

June 1, 2006.

It appears to the Securities and Exchange Commission that there is a lack of current and accurate information concerning the securities of Universal Medical Systems, Inc. (n/k/a Moray Way Holdings, Inc.) because it has not filed any periodic reports since it filed a Form 10-SB registration statement on April 24, 1997.

The Commission is of the opinion that the public interest and the protection of investors require a suspension of trading in the securities of the above-listed company.

Therefore, it is ordered, pursuant to section 12(k) of the Securities Exchange Act of 1934, that trading in the above-listed company is suspended for the period from 9:30 a.m. EDT on June 1, 2006, through 11:59 p.m. EDT on June 14, 2006.

By the Commission.
Nancy M. Morris,
Secretary.

[FR Doc. 06-5128 Filed 6-1-06; 11:37 am]

BILLING CODE 8010-01-P